DEPARTMENT OF THE INTERIOR

Bureau of Indian Affairs

Notice of Intent To Prepare an Environmental Impact Statement for the Proposed Scotts Valley Band of Pomo Indians' Trust Acquisition and Casino Project, Contra Costa County, CA

AGENCY: Bureau of Indian Affairs, Interior.

ACTION: Notice.

SUMMARY: This notice advises the public that the Bureau of Indian Affairs (BIA) as lead agency, with the Scotts Valley Band of Pomo Indians (Band) as cooperating agency, intends to gather information necessary for preparing an Environmental Impact Statement (EIS) for a proposed 29.87± acre trust acquisition and casino project to be located within unincorporated Contra Costa County, California. The purpose of the proposed action is to help provide for the economic development of the Band. This notice also announces a public scoping meeting to identify potential issues and content for inclusion in the EIS.

DATES: Written comments on the scope and implementation of this proposal must arrive by August 19, 2004. The public scoping meeting will be held August 4, 2004, from 6 p.m. to 9 p.m., or until the last public comment is received.

ADDRESSES: You may mail or hand carry written comments to Clay Gregory, Regional Director, Pacific Regional Office, Bureau of Indian Affairs, 2800 Cottage Way, Sacramento, California 95825. The public scoping meeting will be held at Richmond Memorial Auditorium, 403 Civic Center Plaza, Richmond, California.

FOR FURTHER INFORMATION CONTACT: William Allan, (916) 978-6043.

SUPPLEMENTARY INFORMATION: The Band proposes that 29.87± acres of land be taken into trust and that a casino, parking and other facilities supporting the casino be constructed on the trust acquisition property. The 29.87± acres encompasses 6 parcels of land located entirely within unincorporated Contra Costa County, California, contiguous with the city of Richmond. The project site is adjacent to Richmond Parkway and Parr Boulevard, and within 3 miles of Interstate 80. Regional access to the casino complex would be from Richmond Parkway via Interstate 80.

The Proposed Action includes the development of a 225,000± square foot, 30-foot tall casino complex, which would consist of a combination of uses including, but not limited to the following: a main gaming hall; food and beverage facilities, including a restaurant, buffet, food court and sports bar; an entertainment lounge; banking and administration facilities; and an event center. The proposed facility would also include approximately 1,200 surface parking stalls and 1,400 parking stalls located in a 3± level parking structure. Spaces for self-parking, valet parking, overflow parking, bus and RV parking, employee parking and executive parking would also be provided. Driveways along Parr Boulevard would provide access to the parking areas and the casino.

Areas of environmental concern to be addressed in the EIS include land use, geology and soils, water resources, agricultural resources, biological resources, cultural resources, mineral resources, paleontological resources, traffic and transportation, noise, air quality, public health/environmental hazards, public services and utilities, hazardous waste and materials, socio-economics, environmental justice, and visual resources/ aesthetics. The range of issues addressed may be expanded based on comments received during the scoping process.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4371 et seq.), and the Department of the Interior Manual (516 DM 1-6), and is in the exercise of authority delegated to the Principal Deputy Assistant Secretary—Indian Affairs by 209 DM 8.1.

Dated: July 15, 2004.
Aurene M. Martin,
Principal Deputy Assistant Secretary—Indian Affairs.

[FR Doc. 04-16583 Filed 7-19-04; 8:45 am]

BILLING CODE 4310-W7-P